NUCLEAR REGULATORY COMMISSION

[Docket No. 40-8989; License No. SMC-1559]

Envirocare of Utah and The Snake River Alliance; Receipt of Request for Action Under 10 CFR 2.206

Notice is hereby given that by petitions dated February 24, 2000, and March 13, 2000, the Snake River Alliance and Envirocare of Utah, respectively, have requested that the Nuclear Regulatory Commission (NRC) take action with regard to protecting public health and safety. The petitioners request that the NRC assume responsibility for Formerly Utilized Sites Remedial Action Program (FUSRAP) radioactively contaminated material and ensure its proper disposal in an NRC-licensed facility.

As the basis for these requests, the petitioners state that the NRC, under Sections 81 and 84 of the Atomic Energy Act (AEA), was given authority by Congress to regulate all 11e.(2) material regardless of when it was generated.

The request is being treated pursuant to 10 CFR 2.206 of the Commission's regulations. The request has been referred to the Director of the Office of Nuclear Material Safety and Safeguards. As provided by Section 2.206, appropriate action will be taken on this petition within a reasonable time. Copies of the petitions are available for inspection at the Commission's Public Document Room at 2120 L Street, NW. (Lower Level), Washington, DC 20555-0001.

Dated at Rockville, Maryland this 4th day of April, 2000.
For the Nuclear Regulatory Commission.
Martin J. Virgilio,
Deputy Director, Office of Nuclear Material Safety and Safeguards.

[FR Doc. 00-8949 Filed 4-10-00; 8:45 am]

BILLING CODE 7590-01-P